JUDICIAL CONFERENCE OF THE UNITED STATES

Advisory Committee on the Federal Rules of Bankruptcy Procedure

AGENCY: Advisory Committee on the Federal Rules of Bankruptcy Procedure, Judicial Conference of the United States.

ACTION: Notice of proposed amendments.

SUMMARY: The Advisory Committee on Bankruptcy Rules have proposed amendments to the following rules and forms:

Interim Bankruptcy Rules: 1007(b), 1007(h), 1020, 2009, 2012(a), 2015, 3010(b), 3011, and 3016; and Bankruptcy Forms: 101, 201, 309E, 309E2, 309F, 309F2, 314, 315, and 425A.

DATES: All written comments and suggestions with respect to the proposed amendments may be submitted on or after the opening of the period for public comment on October 16, 2019, but no later than November 13, 2019.

ADDRESSES: The text of the proposed rules and the accompanying committee notes, along with the related forms, are posted on the Judiciary's website at: http://www.uscourts.gov/rules-policies/proposed-amendments-published-public-comment. Written comments must be submitted electronically, following the instructions provided on the website. All comments submitted will be posted on the website and available to the public.

FOR FURTHER INFORMATION CONTACT: Rebecca A. Womeldorf, Secretary, Committee on Rules of Practice and Procedure of the Judicial Conference of the United States, Thurgood Marshall Federal Judiciary Building, One Columbus Circle NE, Suite 7-300, Washington, DC 20544, Telephone (202) 502-1820.

Dated: October 11, 2019.
Rebecca A. Womeldorf,
Secretary, Committee on Rules of Practice and Procedure, Judicial Conference of the United States.

[FR Doc. 2019-22621 Filed 10-16-19; 8:45 am]

BILLING CODE 2210-55-P